DEPARTMENT OF ENERGY

Federal Energy Regulatory Commission

[Docket No. EG03-87-000, et al.]

Hardee Power Partners, Limited, et al.; Electric Rate and Corporate Filings

August 5, 2003.

The following filings have been made with the Commission. The filings are listed in ascending order within each docket classification.

1. Hardee Power Partners, Limited

[Docket No. EG03-87-000]

Take notice that on July 31, 2003, Hardee Power Partners, Limited (Hardee Power) filed an application with the Federal Energy Regulatory Commission (Commission) for determination of exempt wholesale generator status pursuant to Section 32 of the Public Utility Holding Company Act of 1935, as amended, and part 365 of the Commission's regulations, on and as of the time at which a proposed transaction that will result in a change in Hardee Power's upstream owners closes (Transaction Closing Time).

Hardee Power states that as of the Transaction Closing Time, Hardee Power, a Florida limited partnership, will be engaged directly and exclusively in the business of operating all or part of one or more eligible facilities located in Florida. Hardee Power further states that the eligible facilities will consist of an approximate 370 MW natural gas /No. 2 oil fired electric generation plant and related interconnection facilities and that the output of the eligible facilities will be sold at wholesale.

Comment Date: August 26, 2003.

2. American Ref-Fuel Company of Delaware Valley, L.P.

[Docket No. ER00-2677-002]

Take notice that on July 31, 2003, American Re-Fuel Company of Delaware Valley, L.P., (ARC Delaware Valley) tendered for filing its triennial market power update pursuant to an unpublished Order issued by the Commission in Docket No. ER00-2677-000 on July 14, 2000, granting ARC Delaware market-based rate authorization.

Comment Date: August 21, 2003.

3. NorthWestern Energy, a Division of NorthWestern Corporation

[Docket No. ER03-329-002]

Take notice that on July 30, 2003, as supplemented on July 31, 2003, NorthWestern Energy (NWE), a division of NorthWestern Corporation tendered for filing, an amendment to its July 15, 2003, compliance filing in Docket No. ER03-329-001 filed pursuant to the Commission's Order issued February 13, 2003, in Docket No. ER03-329-000.

Comment Date: August 21, 2003.

4. PJM Interconnection, L.L.C.

[Docket No. ER03-807-001]

Take notice that on July 28, 2003, PJM Interconnection, L.L.C. (PJM) submitted for filing amendments to the PJM Open Access Transmission Tariff and the Amended and Restated Operating Agreement of PJM in compliance with Commission Order issued June 27, 2003, in Docket No. ER03-807-000.

Comment Date: August 18, 2003.

5. NRG Energy Center Paxton, Inc.

[Docket No. ER03-933-001]

Take notice that on July 24, 2003, NRG Energy Center Paxton, Inc., (Paxton) filed an amendment to its June 6, 2003, filing under section 205 of the Federal Power Act, part 35 of the regulations of the Federal Energy Regulatory Commission (Commission), and Commission Order No. 614, requesting that the Commission (1) accept for filing a revised market-based rate tariff and (2) grant any waivers necessary to make the revised tariff sheets effective on June 30, 2003. Paxton's states that the proposed tariff revisions merely seek to properly update the name of the entity, as well as designate, update and conform the tariff to a format like those that the Commission has approved for Paxton's affiliates.

Comment Date: August 21, 2003.

6. FPL Energy Wyoming, LLC

[Docket No. ER03-1025-001]

Take notice that on July 31, 2003, FPL Energy Wyoming, LLC tendered for filing an amendment to its application, originally submitted on July 2, 2003, for authorization to sell energy and capacity at market-based rates pursuant to section 205 of the Federal Power Act.

Comment Date: August 21, 2003.

7. California Independent System Operator Corporation

[Docket No. ER03-1090-001]

Take notice that on July 31, 2003, the California Independent System Operator Corporation (ISO) filed an amendment to the Participating Generator Agreement (PGA) between the ISO and Energia Azteca X, S. de R.L. de C.V. (EAX) originally submitted on July 18, 2003. The ISO states that it neglected to include the cover sheet required by Order No. 614 in its July 18, 2003, filing and is resubmitting the PGA, including the required cover sheet.

ISO states that no substantive change is being made and the terms remain the same as filed on July 18, 2003.

Comment Date: August 21, 2003.

8. Roswell Energy, Inc.

[Docket No. ER03-1137-000]

Take notice that on July 31, 2003, Roswell Energy, Inc. (Roswell) filed with the Commission a Notice of Cancellation of Rate Schedule FERC No. 1. Roswell requests that they be released from any and all report filing requirements. Roswell states that it is not, and has never been, in the business of generating and transmitting electric power.

Comment Date: August 21, 2003.

9. Idaho Power Company

[Docket No. ER03-1138-000]

Take notice that on July 31, 2003, Idaho Power Company filed a Notice of Cancellation of FERC Electric Tariff First Revised Volume No. 5, Service Agreement No. 147.

Comment Date: August 21, 2003.

10. Vermont Yankee Nuclear Power Corporation

[Docket No. ER03-1139-000]

Take notice that on July 31, 2003, Vermont Yankee Nuclear Power Corporation (Vermont Yankee) submitted for filing an application to reduce Vermont Yankee's wholesale electric rates. Vermont Yankee states that the application affects only a single aspect of Vermont Yankee's rates—the accrual for post-retirement benefits other than pensions for Vermont Yankee's employees.

Vermont Yankee states that copies of this filing have been served on Vermont Yankee's wholesale customers and regulators in the states of Connecticut, Massachusetts, Maine, New Hampshire, and Vermont.

Comment Date: August 21, 2003.

11. Entergy Services, Inc.

[Docket No. ER03-1140-000]

Take notice that on July 31, 2003, Entergy Services, Inc., (Entergy) on behalf of Entergy Arkansas, Inc., Entergy Gulf States, Inc., Entergy Louisiana, Inc., Entergy Mississippi, Inc., and Entergy New Orleans, Inc., (collectively, the Entergy Operating Companies) tendered for filing revisions to the creditworthiness provision (section 11) and other related provisions of Entergy's Open Access Transmission Tariff. Entergy Operating Companies states that the proposed revisions provide specific creditworthiness requirements and procedures for customers to better protect Entergy from risk of non-payment.

Comment Date: August 21, 2003.

12. New England Power Pool and ISO New England Inc.

[Docket No. ER03-1141-000]

Take notice that on July 31, 2003, the New England Power Pool (NEPOOL) Participants Committee and ISO New England Inc., submitted for filing changes to the New England Power Pool Agreement, including the NEPOOL Open Access Transmission Tariff (the 100th Agreement). NEPOOL states that the 100th Agreement is designed to implement a comprehensive transmission cost allocation method for New England.

The NEPOOL Participants Committee states that copies of these materials were sent to the NEPOOL Participants, Non-Participant Transmission Customers and the New England state governors and regulatory commissions.

Comment Date: August 21, 2003.

13. PJM Interconnection, L.L.C.

[Docket No. ER03-1142-000]

Take notice that on July 31, 2003, PJM Interconnection, L.L.C. (PJM), submitted for filing a construction service agreement (CSA) among PJM, Pleasants Energy, L.L.C. and Monongahela Power Company, The Potomac Edison Company, and West Penn Power Company dba Allegheny Power.

PJM requests a waiver of the Commission's 60-day notice requirement to permit a July 17, 2003, effective date for the CSA. PJM states that copies of this filing were served upon the parties to the agreement and the state regulatory commissions within the PJM region.

Comment Date: August 21, 2003.

14. PJM Interconnection, L.L.c.

[Docket No. ER03-1143-000]

Take notice that on July 31, 2003, PJM Interconnection, L.L.C. (PJM), submitted for filing an interconnection service agreement (ISA) and a construction service agreement (CSA) among PJM and Meyersdale Windpower, L.L.C. and Pennsylvania Electric Company a FirstEnergy Company.

PJM requests a waiver of the Commission's 60-day notice requirement to permit a July 17, 2003 effective date for the ISA and CSA. PJM states that copies of this filing were served upon the parties to the agreements and the state regulatory commissions within the PJM region.

Comment Date: August 21, 2003.

15. PJM Interconnection, L.L.C.

[Docket No. ER03-1144-000]

Take notice that on July 31, 2003, PJM Interconnection, L.L.C. (PJM), submitted for filing an interconnection service agreement (ISA) among PJM, PSEG Fossil LLC and Public Service Electric and Gas Company and a notice of cancellation of an interim ISA that has terminated.

PJM requests a waiver of the Commission's 60-day notice requirement to permit a July 2, 2003, effective date for the ISA. PJM states that copies of this filing were served upon the parties to the agreements and the state regulatory commissions within the PJM region.

Comment Date: August 21, 2003.

16. NorthWestern Corporation

[Docket No. ES03-44-000]

Take notice that on July 29, 2003, NorthWestern Corporation (NorthWestern) submitted an application pursuant to section 204 of the Federal Power Act seeking: (1) Authorization to issue no more than $775 million of indebtedness; (2) authorization to issue up to 200 million additional shares of common stock and 50 million shares of preferred stock; and (3) an extension of the authority granted in Docket No. ES02-39-000.

NorthWestern also requests a waiver from the Commission's competitive bidding and negotiated placement requirements at 18 CFR 34.2.

Comment Date: August 18, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-20687 Filed 8-13-03; 8:45 am]

BILLING CODE 6717-01-P